DEPARTMENT OF HEALTH AND HUMAN SERVICES

Administration for Children and Families

Notice of Change in Application Requirements

AGENCY: Administration on Developmental Disabilities, ACF, HHS.

ACTION: Notification of change in allocation notification procedures to State Protection and Advocacy Systems (P&As) for mandatory awards under the Help America Vote Act (HAVA), Public Law 107-252.

CFDA Number: 93.617.

Statutory Authority: Title II, Subtitle D, Part 5, of HAVA 42 U.S.C. 15461-62; Section 102 of the Developmental Disabilities Assistance and Bill of Rights Act of 2000 (DD Act) (42 U.S.C. 15002); and Section 509 of the Rehabilitation Act of 1973 as amended (29 U.S.C. 794e)

SUMMARY: The Administration for Children and Families (ACF), Administration on Developmental Disabilities (ADD) has modified the application requirements for awards made to P&As under HAVA, Public Law 107-252. Under the program, formula grants are allotted to States based on population, financial need, and need for service. P&As provide services to individuals with developmental disabilities based on the identification of goals in the areas of emphasis listed in the DD Act and based on public input.

Section 291 of HAVA does not outline specific application requirements for P&As. Therefore, ADD has the discretion to alter the process by which P&As are notified of their annual allocations. Accordingly, P&As will no longer be required to submit an application; and, an annual Funding Opportunity Announcement (FOA) will no longer be published. Instead, ADD will now rely solely on the official notification provided to P&As by ACF's Division of Mandatory Grants. This notice informs P&As of the availability of their annual award allocations.

FOR FURTHER INFORMATION CONTACT: Melvenia Wright, Program Specialist. Telephone: (202) 690-5557. Email: Melvenia.Wright@acf.hhs.gov.

Dated: February 2, 2012.
Sharon Lewis,
Commissioner, Administration on Developmental Disabilities.

[FR Doc. 2012-2920 Filed 2-7-12; 8:45 am]

BILLING CODE 4184-38-P